DEPARTMENT OF AGRICULTURE

Food and Nutrition Service

Availability to School Food Authorities of Nutrition Information and Ingredient Lists for Foods Used in School Food Service: Request for Information

AGENCY: Food and Nutrition Service, USDA.

ACTION: Request for information from the public.

SUMMARY: Schools participating in the National School Lunch Program and the School Breakfast Program (“SMPs”) need nutrition information and ingredient lists for menu planning and to assess foods to be used in meeting meal pattern requirements of the SMPs. The U.S. Department of Agriculture's Food and Nutrition Service (FNS) is interested in examining what nutrition information and ingredient lists are made available to schools, the manner and scope of the information's accessibility, and how that information and accessibility compare with the information schools may be seeking. FNS would like to better understand what information sources, such as the Child Nutrition Database, USDA Foods nutrition fact sheets, and information directly from the manufacturer, are used by schools to both procure foods and plan menus for the SMPs. FNS has received numerous inquiries from schools seeking assistance in locating and assessing nutrition information and ingredient lists for USDA Foods as well as commercially selected foods. A better understanding of what nutrition information and ingredients lists are provided, the source of the information and the medium in which the information is received are all necessary components to fully understand what resources schools need to successfully plan SMPs meals. In addition, we anticipate this information will provide FNS with key insights in our implementation of Section 9(a)(4)(C) of the Richard B. Russell National School Lunch Act, 42 U.S.C. 1758(a)(4)(C) as amended by Section 242 of the Healthy, Hunger-Free Kids Act of 2010, Public Law 111-296.

DATES: Information must be received on or before November 17, 2011.

ADDRESSES: Information may be submitted through the Federal eRulemaking portal: http://www.regulations.gov. Follow online instructions for submitting comments. Information may also be submitted by mail to: Alexandra Lewin, Nutritionist, 3101 Park Center Drive, Room 500, Alexandria, VA 22302. Respondents are strongly encouraged to submit comments through http://www.regulations.gov, as it will simplify the review of their input and help to ensure that it receives full consideration. All information submitted in response to this notice will be included in the record and will be made available to the public. Please be advised that the substance of the information and the identity of the individuals or entities submitting the information will be subject to public disclosure. All information will be made available publicly on the Internet at http://www.regulations.gov.

FOR FURTHER INFORMATION CONTACT: Alexandra Lewin, Nutritionist, at Alexandra.lewin@fns.usda.gov or 703-305-2705.

SUPPLEMENTARY INFORMATION:

1. Background

Schools that participate in the SMPs must meet Federal meal pattern requirements and compliance assessments. Selecting and ordering foods commercially and through the USDA Foods program involves a number of factors that include an understanding of both the nutritional content of and ingredients contained in food offered to schools and ultimately served to students. In addition, as schools look to increase the nutritional quality of the meals served, meet revised meal pattern requirements, apply for HealthierUS School Challenge certification, and/or detect allergens that may affect their students, access to relevant, timely and comprehensive nutrition information and ingredient lists is essential.

FNS would like to better understand what, where, and how nutrition information and ingredient lists are provided to schools—and what information schools are seeking—when ordering and receiving products to prepare as part of a school meal.

2. Key Issues on Which Public Input is Requested

This document requests the public to inform FNS on the following statements as they relate to foods served in school meal programs:

a. How schools obtain nutrition information and ingredient lists about foods used in school food service, including commercially selected foods and USDA Foods, when ordering food for a school (e.g., computerized ordering system, contacting the manufacturer directly, searching the manufacturer's Web site, etc.).

b. How schools obtain nutrition information and ingredient lists about commercially selected foods and USDA Foods when food gets delivered to a school (e.g., fact sheet, label on institutional pack, vendor Web site, etc.).

c. Whether nutrition information and ingredient lists are easily accessible prior to ordering food.

d. Whether nutrition information and ingredient lists are easily accessible when food gets delivered to a school.

e. Whether nutrition information and ingredient lists available to schools prior to ordering food are adequate.

f. Whether nutrition information and ingredient lists provided upon delivery to schools are adequate.

g. Challenges food manufacturers, processors, distributors, brokers and others in food service may face when providing nutrition information and ingredient lists to schools.

h. Most desirable method to obtain nutrition information and ingredient lists when ordering food for a school.

i. Most desirable method to obtain nutrition information and ingredient lists when food gets delivered to a school.

j. Whether a school food authority's solicitation for food items contains clear statements regarding the need for nutrition information and/or ingredient lists.

k. Schools' whole-grain ordering needs, including:

(1) Whether schools receive adequate ingredient information to determine whether foods are whole-grain.

(2) What specific documentation, if any, a school is looking for when purchasing whole-grain products.

l. Whether schools tend to use previously developed specifications or develop new specifications to reflect nutritional and ingredient needs of the program/students.

m. The frequency with which schools write specifications using ingredient lists or nutrition information from previously ordered products.

Dated: August 12, 2011.
Audrey Rowe,
Administrator, Food and Nutrition Service.

[FR Doc. 2011-21148 Filed 8-18-11; 8:45 am]

BILLING CODE 3410-30-P